ENVIRONMENTAL PROTECTION AGENCY

[EPA-HQ-OW-2009-0089; FRL-8984-4]

Agency Information Collection Activities; Submission to OMB for Review and Approval; Comment Request; Unregulated Contaminant Monitoring in Public Water Systems (Renewal); EPA ICR No. 2192.03, OMB Control No. 2040-0270

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before December 24, 2009.

ADDRESSES: Submit your comments, referencing Docket ID No. EPA-HQ-OW-2009-0089 to (1) EPA online using http://www.regulations.gov (our preferred method), by e-mail to OW-Docket@epa.gov, or by mail to: EPA Docket Center, Environmental Protection Agency, Water Docket, United States Environmental Protection Agency, Mail Code 28221T, 1200 Pennsylvania Ave., NW., Washington, DC 20460, Attention Docket ID No. EPA-HQ-OW-2009-0089, and (2) OMB by mail to: Office of Information and Regulatory Affairs, Office of Management and Budget (OMB), Attention: Desk Officer for EPA, 725 17th Street, NW., Washington, DC 20503.

FOR FURTHER INFORMATION CONTACT: Brenda D. Parris, Technical Support Center, Office of Ground Water and Drinking Water, United States Environmental Protection Agency, Office of Water, 26 West Martin Luther King Drive (MS 140), Cincinnati, OH 45268, telephone (513) 569-7961; e-mail address parris.brenda@epa.gov. For general information, contact the Safe Drinking Water Hotline. Callers within the United States may reach the Hotline at (800) 426-4791. The Hotline is open Monday through Friday, excluding legal holidays, from 10 a.m. to 4 p.m., Eastern Time.

SUPPLEMENTARY INFORMATION: EPA has submitted the following ICR to OMB for review and approval according to the procedures prescribed in 5 CFR 1320.12. On June 9, 2009, (74 FR 27312) EPA sought comments on this ICR pursuant to 5 CFR 1320.8(d). EPA received no comments during the comment period. Any additional comments on this ICR should be submitted to EPA and OMB within 30 days of this notice.

EPA has established a public docket for this ICR under Docket ID No. EPA-HQ-OW-2009-0089, which is available for online viewing at http://www.regulations.gov, or in person viewing at the Water Docket, EPA West, Room 3334, 1301 Constitution Avenue, NW., Washington, DC. The Docket Center Public Reading Room is open from 8:30 a.m. to 4:30 p.m., Monday through Friday, excluding legal holidays. The telephone number for the Reading Room is 202-566-1744, and the telephone number for the Water Docket is (202) 566-2426.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI), or other information whose public disclosure is restricted by statute. For further information about the electronic docket, go to http://www.regulations.gov.

Title: Unregulated Contaminant Monitoring in Public Water Systems (Renewal).

ICR numbers: EPA ICR No. 2192.03, OMB Control No. 2040-0270.

ICR Status: This ICR is scheduled to expire on November 30, 2009. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: The Safe Drinking Water Act (SDWA), as amended in 1996, directs EPA to establish criteria for a program to monitor not more than 30 unregulated contaminants every five years. EPA published the first group of contaminants in the Unregulated Contaminant Monitoring Regulation (i.e., UCMR 1), which established a revised approach for UCMR implementation, in the Federal Register dated September 17, 1999, (64 FR 50556). EPA published the second group of contaminants in UCMR 2, in the Federal Register dated January 4, 2007, (72 FR 367). This regulation met the SDWA requirement by identifying 25 new priority contaminants to be monitored during the UCMR 2 cycle of 2007-2011.

Under UCMR 2, Assessment Monitoring uses more common analytical method technologies used by drinking water laboratories. All public water systems (PWSs) serving more than 10,000 people, and 800 representative PWSs serving fewer than 10,001 people are required to monitor for the 10 “List 1” contaminants during a 12-month period between January 2008-December 2010. Screening Survey monitoring uses more specialized analytical method technologies not as widely used by drinking water laboratories. All PWSs serving more than 100,000 people, 320 representative PWSs serving 10,001-100,000 people, and 480 representative PWSs serving fewer than 10,001 people are required to monitor for the 15 “List 2” contaminants during a 12-month period between January 2008-December 2010.

This notice proposes renewal of the currently approved UCMR 2 ICR (OMB Control No. 2040-0270), which covers the period of 2007-2009. This ICR renewal accounts for activities over a three-year period (2010-2012), as is customary. Note that the complete five-year UCMR 2 cycle of 2007-2011 overlaps with the applicable ICR renewal period only during 2010 and 2011. Public water systems will only be involved in active monitoring during 2010 (i.e., one-third of this ICR period), with reporting continuing into 2011 for some.

Burden Statement: The annual public reporting and recordkeeping burden for this collection of information is estimated to average 5.8 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Public water systems.

Estimated Number of Respondents: 1,694 (1,638 PWSs and 56 State primacy agencies).

Frequency of Response: On Occasion.

Estimated Total Annual Hour Burden: 9,761.

Estimated Total Annual Cost: $3,250,616 includes an estimated labor cost of $387,096 and $2,863,520 for capital and operation & maintenance costs.

Changes in the Estimates: There is decrease of 30,625 hours in the total estimated burden currently identified in the OMB Inventory of Approved ICR Burdens. This decrease is due to the fact that the complete five-year UCMR 2 cycle of 2007-2011 overlaps with the applicable ICR renewal period only during 2010 and 2011. In this time, there will be fewer PWSs participating and the schedule of activities will have changed.

Dated: November 16, 2009.
John Moses,
Director, Collection Strategies Division.

[FR Doc. E9-28145 Filed 11-23-09; 8:45 am]

BILLING CODE 6560-50-P